DEPARTMENT OF AGRICULTURE

Submission for OMB Review; Comment Request

July 18, 2022.

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by August 22, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Resource Management and Chemical Use Surveys—Substantive Change.

OMB Control Number: 0535-0218.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the ARMS and Chemical Use Survey information collection request (OMB No. 0535-0218) for the 2022 ARMS Phase 2, and Vegetable Chemical Use Surveys. The change is needed to accommodate the addition of the 2022 ARMS Phase 2 and 2022 Vegetable Chemical Use questionnaires and respondent booklets.

The target commodities for the 2022 cycle are: wheat, potatoes, and vegetable chemical use. Previously the wheat data were collected on three different versions (Durum, other spring, and winter), but this year the three varieties are all included on the wheat version.

There is a decrease of 370 hours of burden in this substantive change request resulting in a new total of 106,015 hours. The decrease was due to the removal of questions from the Production Practices Report (Potatoes) that were previously requested by the USDA Office of Pest Management Policy (OPMP). The removal of questions reduced the average time per respondent from 50 to 35 minutes.

Need and Use of the Information: These changes will provide updated chemical use data for wheat, potatoes, and vegetables that are essential for evaluating the economic and environmental consequences of farm chemical regulations.

Description of Respondents: Farms and Ranches.

Number of Respondents: 105,850.

Frequency of Responses: Reporting: Less than five times per year.

Total Burden Hours: 106,015.

Levi Harrell,
Departmental Information Collection Clearance Officer.

[FR Doc. 2022-15738 Filed 7-21-22; 8:45 am]

BILLING CODE 3410-20-P